DEPARTMENT OF HOUSING AND URBAN DEVELOPMENT

[Docket No. FR-5544-D-11]

Redelegation of Fair Housing Act Complaint Processing Authority

AGENCY: Office of the Assistant Secretary for Fair Housing and Equal Opportunity, HUD.

ACTION: Notice of redelegation of authority.

SUMMARY: Through this notice, the Assistant Secretary for Fair Housing and Equal Opportunity (FHEO) supersedes all prior redelegations of authority for Fair Housing Act complaint processing made within the Offices of the Assistant Secretary for FHEO and the General Deputy Assistant Secretary for FHEO under the Fair Housing Act and redelegates this authority to FHEO region and headquarters staff.

DATES: Effective Date: November 16, 2011.

FOR FURTHER INFORMATION CONTACT: Sara K. Pratt, Deputy Assistant Secretary for Enforcement and Programs, Office of Fair Housing and Equal Opportunity, Department of Housing and Urban Development, 451 Seventh Street SW., Room 5204, Washington, DC 20410-0001, telephone (202) 402-6322. (This is not a toll-free number.) Hearing- and speech-impaired individuals may access this number through TTY by calling the toll-free Federal Relay Service at (800) 877-8339.

SUPPLEMENTARY INFORMATION: By separate notice published in today's Federal Register, the Secretary delegates to the Assistant Secretary for FHEO authority pertaining to civil rights statutes. Included in the consolidated delegation is the authority to enforce the Fair Housing Act (42 U.S.C. 3601, et seq.). In this notice, the Assistant Secretary for FHEO supersedes all prior redelegations of authority for Fair Housing Act complaint processing and retains and redelegates this authority to the General Deputy Assistant Secretary, who redelegates this authority to FHEO region and headquarters staff. Accordingly, the Assistant Secretary for FHEO retains and redelegates this authority as provided in this notice.

Section A. Authority Retained and Redelegated

The Assistant Secretary for FHEO retains and redelegates the authority for Fair Housing Act complaint processing, as provided in 24 CFR part 103, to the General Deputy Assistant Secretary for FHEO.

The General Deputy Assistant Secretary for FHEO retains and further redelegates the authority for the filing of a Secretary-initiated complaint and/or initiation of complaint and pre-complaint investigations under 24 CFR 103.204(a), 24 CFR 103.200(b), to the Deputy Assistant Secretary for Enforcement and Programs.

The General Deputy Assistant Secretary for FHEO retains and further redelegates the authority under 24 CFR part 103, subparts A, B, D (with the exception of the filing of a Secretary-initiated complaint and/or investigation under 24 CFR 103.200(b) and 24 CFR 103.204(a)), E, and F, to the Deputy Assistant Secretary for Enforcement and Programs; Director of the Office of Enforcement; Director of the Office of Systemic Investigations and FHEO Region Directors.

The General Deputy Assistant Secretary for FHEO retains and further redelegates the authority under 24 CFR part 103, subpart C (referral of complaints to State and Local Agencies) to the Deputy Assistant Secretary for Enforcement and Programs, Director of the Office of Enforcement and FHEO Region Directors.

The General Deputy Assistant Secretary for FHEO further retains and redelegates the authority under 24 CFR 103.510(a) to the Deputy Assistant Secretary for Enforcement and Programs, Director of the Office of Enforcement and FHEO Region Directors.

The General Deputy Assistant Secretary for FHEO further retains and redelegates the authority under 24 CFR 103.510(d) to the Deputy Assistant Secretary for Enforcement and Programs; Director of the Office of Enforcement; Director of the Office of Systemic Investigations; FHEO Region Directors and FHEO Center Directors.

The Assistant Secretary for FHEO retains and redelegates to the General Deputy Assistant Secretary for FHEO the authority to reconsider no cause determinations. The General Deputy Assistant Secretary for FHEO further retains and redelegates this authority to the Deputy Assistant Secretary for Enforcement and Programs and Director of the Office of Enforcement.

Section B. Authority To Further Redelegate

The General Deputy Assistant Secretary may further redelegate the authorities provided in Section A of this notice. The Deputy Assistant Secretary for Enforcement and Programs; Director of the Office of Enforcement; Director of the Office of Systemic Investigations; FHEO Region Directors and FHEO Center Directors may not redelegate the authorities provided in Section A of this notice.

Section C. Authority Superseded

All prior redelegations of authority for Fair Housing complaint processing made within the Offices of the Assistant Secretary for FHEO and the General Deputy Assistant Secretary are superseded.

Authority: Section 7(d) of the Department of Housing and Urban Development Act (42 U.S.C. 3535(d)).

Dated: November 16, 2011.
John Trasviña,
Assistant Secretary for Fair Housing and Equal Opportunity.
Bryan Greene,
General Deputy Assistant Secretary for Fair Housing and Equal Opportunity.

[FR Doc. 2011-30769 Filed 11-28-11; 8:45 am]

BILLING CODE 4210-67-P